DEPARTMENT OF TRANSPORTATION

Federal Aviation Administration

14 CFR Part 71

[Docket No. FAA-2022-0546; Airspace Docket No. 22-ASW-10]

RIN 2120-AA66

Amendment of Class D and Class E Airspace; Rogers, Springdale, and Bentonville, AR

AGENCY: Federal Aviation Administration (FAA), DOT.

ACTION: Final rule.

SUMMARY: This action amends Class D airspace and Class E surface airspace for the following Arkansas airports: Rogers Executive Airport-Carter Field (new name), Springdale Municipal Airport, and Bentonville Municipal Airport/Louise M Thaden Field (new name), as well as updating the airport's names and geographic coordinates.

DATES: Effective 0901 UTC, June 15, 2023. The Director of the Federal Register approves this incorporation by reference action under 1 CFR part 51, subject to the annual revision of FAA Order JO 7400.11 and publication of conforming amendments.

ADDRESSES: A copy of the NPRM, all comments received, this final rule, and all background material may be viewed online at www.regulations.gov using the FAA Docket number. Electronic retrieval helps, and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: John Fornito, Operations Support Group, Eastern Service Center, Federal Aviation Administration, 1701 Columbia Avenue, College Park, GA 30337; Telephone: (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it amends airspace in Rogers, Springdale, and Bentonville, AR, to support IFR operations in the area.

History

The FAA published a notice of proposed rulemaking for Docket No. FAA-2022-0546 in the Federal Register (87 FR 68116, November 14, 2022), to amend Class D airspace for Rogers Executive Airport-Carter Field (formerly Rogers Municipal/Carter Field), and Springdale Municipal Airport by updating each airport's geographic coordinates to coincide with the FAA's database. Also, Class E surface airspace for the above airports and Bentonville Municipal Airport/Louise M Thaden Field (formerly Bentonville Municipal/Louise M. Thaden Field) was proposed to be amended, and the airport's names and the dividing line of the Class D airspace between Rogers Executive Airport-Carter Field with the Class E surface airspace of Bentonville Municipal Airport/Louise M Thaden Field required updating.

Interested parties were invited to participate in this rulemaking effort by submitting written comments on the proposal to the FAA. No comments were received support.

Class D and Class E airspace designations are published in Paragraphs 5000 and 6002, respectively, of FAA Order JO 7400.11G, dated August 19, 2022, and effective September 15, 2022, which is incorporated by reference in 14 CFR 71.1. The Class D and Class E airspace designations listed in this document will subsequently be published in FAA Order JO 7400.11.

Incorporation by Reference

Class D and Class E airspace designations are published in Paragraphs 5000, 6002, and 6005 of FAA Order JO 7400.11, Airspace Designations and Reporting Points, which is incorporated by reference in 14 CFR 71.1 on an annual basis. This document amends the current version of that order, FAA Order JO 7400.11G, dated August 19, 2022, and effective September 15, 2022. These updates will subsequently be published in the next update to FAA Order JO 7400.11. FAA Order JO 7400.11G is publicly available as listed in the ADDRESSES section of this document. These amendments will be published in the next update to FAA Order JO 7400.11.

FAA Order JO 7400.11G lists Class A, B, C, D, and E airspace areas, air traffic routes, and reporting points.

The Rule

This action amends 14 CFR part 71 by amending Class D airspace for Rogers Executive Airport-Carter Field (formerly Rogers Municipal/Carter Field), and Springdale Municipal Airport by updating each airport's geographic coordinates to coincide with the FAA's database. Also, Class E surface airspace is amended for the above airports and Bentonville Municipal Airport/Louise M Thaden Field (formerly Bentonville Municipal/Louise M. Thadden Field). This action also updates the airport's names and the dividing line of the Class D airspace between Rogers Executive Airport-Carter Field with the Class E surface airspace of Bentonville Municipal Airport/Louise M Thaden Field. In addition, this action replaces the outdated terms Airport/Facility Directory with the term Chart Supplement and Notice to Airmen with the term Notice to Air Missions in the airspace descriptions.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraphs 5-6.5a. This airspace action is not expected to cause any potentially significant environmental impacts, and no extraordinary circumstances exist that warrant the preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 5000 Class D Airspace.

* * * * *

ASW AR D Rogers, AR [Amended]

Rogers Executive Airport-Carter Field, AR

(Lat. 36°22′21″ N, long. 94°06′25″ W)

Razorback VOR

(Lat. 36°14′47″ N, long. 94°07′17″ W)

That airspace extending upward from the surface up to but not including 3,900 feet MSL within a 4-mile radius of Rogers Executive Airport-Carter Field and within 2.2 miles each side of the 005° radial of the Razorback VOR extending from the 4-mile radius to 6.0 miles south of the airport excluding that airspace west of a line (lat. 36°24′09″ N, long. 94°10′51″ W and lat. 36°18′53″ N, long. 94°08′55″ W), and excluding the Class C airspace associated with the Northwest Arkansas Regional airport. This Class D airspace area is effective during the specific dates and times established in advance by a Notice to Air Missions. The effective date and time will thereafter be continuously published in the Chart Supplement.

ASW AR D Springdale, AR [Amended]

Springdale Municipal Airport, AR

(Lat. 36°10′35″ N, long. 94°07′09″ W)

Razorback VOR

(Lat. 36°14′47″ N, long. 94°07′17″ W)

That airspace extending upward from the surface to and including 3,900 feet MSL within a 4.1-mile radius of Springdale Municipal Airport and within 1.3 miles each side of the 358° and 178° radials of the Razorback VORTAC extending from the 4.1-mile radius to 4.6 miles north of the airport. This Class D airspace area is effective during the specific dates and times established in advance by a Notice to Air Missions. The effective date and time will thereafter be continuously published in the Chart Supplement.

Paragraph 6002 Class E Surface Airspace.

* * * * *

ASW AR E2 Rogers, AR [Amended]

Rogers Executive Airport—Carter Field, AR

(Lat. 36°22′21″ N, long. 94°06′25″ W)

Razorback VOR

(Lat. 36°14′47″ N, long. 94°07′17″ W)

That airspace extending upwards from the surface within a 4-mile radius of Rogers Executive Airport—Carter Field and within 2.2 miles on each side of the 005° radial of the Razorback VOR extending from the 4-mile radius to 6.0 miles south of the airport, excluding that airspace west of a line (lat. 36°24′09″ N, long. 94°10′51″ W and lat. 36°18′53″ N, long. 94°08′55″ W). This Class E airspace area is effective during the specific dates and times established in advance by a Notice to Air Missions. The effective date and time will thereafter be continuously published in the Chart Supplement.

ASW AR E2 Springdale, AR [Amended]

Springdale Municipal Airport, AR

(Lat. 36°10′35″ N, long. 94°07′09″ W)

Razorback VORTAC

(Lat. 36°14′47″ N, long. 94°07′17″ W)

That airspace extending upwards from the surface within a 4.1-mile radius of Springdale Municipal Airport and within 1.3 miles on each side of the 358° and 178° radials of the Razorback VORTAC extending from the 4.1-mile radius to 4.6 miles north of the airport. This Class E airspace area is effective during the specific dates and times established in advance by a Notice to Air Missions. The effective date and time will thereafter be continuously published in the Chart Supplement.

ASW AR E2 Bentonville, AR [Amended]

Bentonville Municipal Airport/Louise M. Thaden Field, AR

(Lat. 36°20′43″ N, long. 94°13′10″ W)

Razorback VOR

(Lat. 36°14′47″ N, long. 94°07′17″ W)

That airspace extending upwards from the surface within a 3.9-mile radius of Bentonville Municipal Airport/Louise M. Thaden Field and within 2.2 miles each side of the 322° radial of the Razorback VOR extending from the 3.9-mile radius to 6 miles southeast of the airport excluding that airspace east of a line (lat. 36°24′09″ N, long. 94°10′51″ W and lat. 36°18′53″ N, long. 94°08′55″ W). This Class E airspace area is effective during the specific dates and times established in advance by a Notice to Air Missions. The effective date and time will thereafter be continuously published in the Chart Supplement.

Issued in College Park, Georgia, on April 10, 2023.
Andreese C. Davis,
Manager, Airspace & Procedures Team South Eastern Service Center, Air Traffic Organization.

[FR Doc. 2023-07831 Filed 4-13-23; 8:45 am]

BILLING CODE 4910-13-P